ENVIRONMENTAL PROTECTION AGENCY

[EPA-HQ-OPP-2007-0260; FRL-8123-1]

The Association of American Pesticide Control Officials (AAPCO)/State FIFRA Issues Research and Evaluation Group (SFIREG) Working Committee on Water Quality/Pesticide Disposal (WC/WQ/PD); Notice of Public Meeting

AGENCY: Environmental Protection Agency (EPA).

ACTION: Notice.

SUMMARY: The Association of American Pesticide Control Officials (AAPCO)/State FIFRA Issues Research and Evaluation Group (SFIREG) Working Committee on Water Quality/Pesticide Disposal (WC/WQ/PD) will hold a 2-day meeting, beginning on April 30, 2007 and ending May 1, 2007. This notice announces the location and times for the meeting and sets forth the tentative agenda topics.

DATES: The meeting will be held on April 30, 2007 from 8.30 a.m. to 5 p.m. and 8:30 a.m. to 12 noon on May 1, 2007.

To request accommodation of a disability, please contact the person listed under FOR FURTHER INFORMATON CONTACT, preferably at least 10 days prior to the meeting, to give EPA as much time as possible to process your request.

ADDRESSES: The meeting will be held at USEPA 2777 South Crystal Dr., One Potomac Yards (South Bldg.) 4th Floor Conference Center/South

FOR FURTHER INFORMATION CONTACT: Georgia McDuffie, Field and External Affairs Division (7506P), Office of Pesticide Programs, Environmental Protection Agency, 1200 Pennsylvania Ave., NW., Washington, DC 20460-0001; telephone number: (703) 605-0195; fax number: (703) 308-1850; e-mail address: mcduffie.georgia@epa.gov or Philip H. Gray, SFIREG Executive Secretary, P.O. Box 1249, Hardwick, VT 05843-1249; telephone number: (802) 472-6956; fax (802) 472-6957; e-mail address: aapco@plainfield.bypass.com.

SUPPLEMENTARY INFORMATION:

I. General Information

A. Does this Action Apply to Me?

You may be potentially affected by this action if you are interested in SFIREG information exchange relationship with EPA regarding important issues related to human health, environmental exposure to pesticides, and insight into EPA's decision-making process are invited and encouraged to attend the meetings and participate as appropriate.” Potentially affected entities may include, but are not limited to: Those persons who are or may be required to conduct testing of chemical substances under the Federal Food, Drug and Cosmetic Act (FFDCA), or the Federal Insecticide, Fungicide, and Rodenticide Act (FIFRA).

B. How Can I Get Copies of this Document and Other Related Information?

1. Docket. EPA has established a docket for this action under docket identification (ID) number EPA-HQ-OPP-2006-0260. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Tentative Agenda

1. Chemigation PRN 87-1: Subsurface Drip Irrigation and Water Quality Concerns

2. Pesticide Degradates

3. Drinking Water Levels of Comparison and State Review Triggers for New Active Ingredients

4. Safe Drinking Water Act and OPP Interaction on Maximum Contaminant Levels in Public Drinking Water Supplies

5. Draft Protocols for State Retrieval of Registration Data

6. Container Recycling: State Survey and Draft Rule

7. SFIREG WQ/PD State Reporting Form: Results and Future

8. Exposure Modeling Public Meeting: Activities Report

9. Performance Measures, “Pesticides of Interest” List, On-line Reporting

10. ASIWPCA-SFIREG Partnerships

11. SFIREG WQ/PD Committee Structure and Member Term Expirations

12. Federal Aquatic Life Benchmarks Update

13. Sate-level Aquatic Life Criteria Development

14. Atrazine Issues: Eco-monitoring, Scientific Advisory Panel Update,State-Federal Program Interaction

15. EPA Updates:

a. Office of Pesticide Programs Update

b. Office of Enforcement Compliance Assurance Update

List of Subjects

Environmental protection.

Dated: April 5, 2007.
Kevin Keaney,
Director, Field External Affairs Division, Office of Pesticide Programs

[FR Doc. E7-6945 Filed 4-12-07; 8:45 am]

BILLING CODE 6560-50-S